DEPARTMENT OF HEALTH AND HUMAN SERVICES

42 CFR Part 110

RIN 0906-AA83

Countermeasures Injury Compensation Program (CICP): Administrative Implementation; Interim Final Rule

Correction

In rule document 2010-25110 beginning on page 63656 in the issue of Friday, October 15, 2010, make the following corrections:

1. On page 63656, in the first column, in the DATES section, in the second and third lines, “Written one comments” should read “Written comments”.

2. On the same page, in the same column, in the ADDRESSES section, in the fourth and fifth lines, “submit your comments in only of these ways” should read “submit your comments in only one of these ways”.

[FR Doc. C1-2010-25110 Filed 10-20-10; 8:45 am]

BILLING CODE 1505-01-D